DEPARTMENT OF ENERGY

Federal Energy Regulatory Commission

Combined Notice of Filings #1

Take notice that the Commission received the following electric corporate filings:

Docket Numbers: EC23-100-000.

Applicants: Imperial Valley Solar 3, LLC, Moapa Southern Paiute Solar, LLC, Kingbird Solar B, LLC, Kingbird Solar A, LLC, Solar Star Colorado III, LLC, 64KT 8me LLC, Gulf Coast Solar Center II, LLC, Gulf Coast Solar Center III, LLC, Nicolis, LLC, Tropico, LLC, Townsite Solar, LLC, 325MK 8ME, LLC, Vikings Energy Farm LLC, CA Flats Solar 150, LLC, CA Flats Solar 130, LLC, Solar Star California XIII, LLC.

Description: Joint Application for Authorization Under Section 203 of the Federal Power Act of CA Flats Solar 130, LLC, et al.

Filed Date: 6/29/23.

Accession Number: 20230629-5187.

Comment Date: 5 p.m. ET 7/20/23.

Docket Numbers: EC23-101-000.

Applicants: BIF V Hollywood Carry LLC, BEP BIF V Hollywood AIV LLC, BIF V Hollywood Carry II, L.P., Duke Energy Renewables Holding Company, LLC, on Behalf of Its Public Utility Subsidiaries.

Description: Joint Application for Authorization Under Section 203 of the Federal Power Act of BIF V Hollywood Carry LLC, et al.

Filed Date: 6/29/23.

Accession Number: 20230629-5194.

Comment Date: 5 p.m. ET 7/20/23.

Docket Numbers: EC23-102-000.

Applicants: Colton Power L.P.

Description: Application for Authorization Under Section 203 of the Federal Power Act of Colton Power L.P.

Filed Date: 6/30/23.

Accession Number: 20230630-5431.

Comment Date: 5 p.m. ET 7/21/23.

Docket Numbers: EC23-103-000.

Applicants: BE-Pine 1 LLC.

Description: Application for Authorization Under Section 203 of the Federal Power Act of BE-Pine 1 LLC.

Filed Date: 7/3/23.

Accession Number: 20230703-5283.

Comment Date: 5 p.m. ET 7/24/23.

Take notice that the Commission received the following electric rate filings:

Docket Numbers: ER10-1585-022; ER10-1594-022; ER10-1617-022; ER10-1626-014; ER10-1628-022; ER10-1632-024; ER10-2480-012; ER12-60-024; ER16-733-013; ER16-1148-013; ER18-1960-006.

Applicants: Tenaska Pennsylvania Partners, LLC, Tenaska Energía de Mexico, S. de R. L. de C.V., LQA, LLC, Tenaska Power Management, LLC, Berkshire Power Company, LLC, Tenaska Power Services Co., Texas Electric Marketing, LLC, Tenaska Virginia Partners, L.P., New Mexico Electric Marketing, LLC, California Electric Marketing, LLC, Alabama Electric Marketing, LLC.

Description: Triennial Market Power Analysis for Northeast Region of Alabama Electric Marketing, LLC, et al.

Filed Date: 6/28/23.

Accession Number: 20230628-5197.

Comment Date: 5 p.m. ET 8/28/23.

Docket Numbers: ER10-2253-016; ER10-3319-020.

Applicants: Astoria Energy II LLC, Astoria Energy LLC.

Description: Triennial Market Power Analysis for Northeast Region of Astoria Energy LLC, et al.

Filed Date: 6/29/23.

Accession Number: 20230629-5185.

Comment Date: 5 p.m. ET 8/28/23.

Docket Numbers: ER10-2265-021; ER10-2355-011; ER10-2784-017; ER10-2947-016; ER10-3223-010; ER11-1846-012; ER11-1847-012; ER11-1850-012; ER11-2062-029; ER11-2175-007; ER11-2176-006; ER11-2598-015; ER11-3188-007; ER11-3418-009; ER11-4307-030; ER11-4308-030; ER12-224-008; ER12-225-008; ER12-261-029; ER12-2301-007; ER13-1192-009; ER16-10-004; ER17-764-007; ER17-765-007; ER17-767-007; ER21-2826-002.

Applicants: NRG Curtailment Solutions, Inc., Stream Energy Delaware, LLC, Stream Energy Illinois, LLC, Stream Ohio Gas & Electric, LLC, NRG Chalk Point CT LLC, Direct Energy Business Marketing, LLC, Stream Energy New York, LLC, Independence Energy Group LLC, Energy New Jersey, LLC, Stream Energy Columbia, LLC, Reliant Energy Northeast LLC, Green Mountain Energy Company, Xoom Energy, LLC, Stream Energy Maryland, LLC, Gateway Energy Services Corporation, Stream Energy Pennsylvania, LLC, SGE Energy Sourcing, LLC, Energy Plus Holdings LLC, Direct Energy Business, LLC, Direct Energy Marketing Inc., Direct Energy Services, LLC, Indian River Power LLC, Vienna Power LLC, Astoria Gas Turbine Power LLC, Midwest Generation LLC, NRG Power Marketing LLC.

Description: Triennial Market Power Analysis for Northeast Region of NRG Power Marketing LLC, et al.

Filed Date: 6/29/23.

Accession Number: 20230629-5184.

Comment Date: 5 p.m. ET 8/28/23.

Docket Numbers: ER12-1436-017; ER18-280-006; ER18-533-004; ER18-534-004; ER18-535-004; ER18-536-004; ER18-537-004; ER18-538-005; ER22-48-001.

Applicants: Gridflex Generation, LLC, Sidney, LLC, Monument Generating Station, LLC, O.H. Hutchings CT, LLC, Yankee Street, LLC, Montpelier Generating Station, LLC, Tait Electric Generating Station, LLC, Lee County Generating Station, LLC, Eagle Point Power Generation LLC.

Description: Triennial Market Power Analysis for Northeast Region of Eagle Point Power Generation LLC, et al.

Filed Date: 6/29/23.

Accession Number: 20230629-5191.

Comment Date: 5 p.m. ET 8/28/23.

Docket Numbers: ER13-1641-006; ER15-1045-006; ER16-2227-005; ER20-2256-001; ER22-1698-004.

Applicants: EDF Spring Field WPC, LLC, Copenhagen Wind Farm, LLC, Creek Wind, LLC, Pilot Hill Wind, LLC, Chestnut Flats Lessee, LLC.

Description: Triennial Market Power Analysis and Notice of Change of Status for Northeast Region of Chestnut Flats Lessee, LLC, et al.

Filed Date: 6/29/23.

Accession Number: 20230629-5189.

Comment Date: 5 p.m. ET 8/28/23.

Docket Numbers: ER23-762-003.

Applicants: The Dayton Power and Light Company, PJM Interconnection, L.L.C.

Description: Compliance Filing of The Dayton Power & Light Company, to the Commissions March 3, 2023 Order, with respect to the planned transmission project, Madison Complex—New 345 kV Line Madison to Fayette.

Filed Date: 6/30/23.

Accession Number: 20230630-5427.

Comment Date: 5 p.m. ET 7/21/23.

Docket Numbers: ER23-1304-000.

Applicants: MFT Energy US 1 LLC.

Description: Refund Report of MFT Energy US 1 LLC.

Filed Date: 6/29/23.

Accession Number: 20230629-5186.

Comment Date: 5 p.m. ET 7/20/23.

Docket Numbers: ER23-2332-000.

Applicants: Pacific Gas and Electric Company.

Description: Notice of Termination of Service Agreement No. 19 of the Wholesale Distribution Tariff under Pacific Gas and Electric Company.

Filed Date: 6/29/23.

Accession Number: 20230629-5182.

Comment Date: 5 p.m. ET 8/28/23.

Docket Numbers: ER23-2333-000.

Applicants: PJM Interconnection, L.L.C.

Description: § 205(d) Rate Filing: Original ISA, SA No. 6961; QueueNo. AE2-140 to be effective 6/6/2023.

Filed Date: 7/5/23.

Accession Number: 20230705-5028.

Comment Date: 5 p.m. ET 7/26/23.

Docket Numbers: ER23-2334-000.

Applicants: Southwest Power Pool, Inc.

Description: § 205(d) Rate Filing: 2198R34 Kansas Power Pool NITSA NOA to be effective 9/1/2023.

Filed Date: 7/5/23.

Accession Number: 20230705-5055.

Comment Date: 5 p.m. ET 7/26/23.

Docket Numbers: ER23-2335-000.

Applicants: The Connecticut Light and Power Company.

Description: § 205(d) Rate Filing: BPUS Generation Development LLC—Engineering and Test Agreement to be effective 7/6/2023.

Filed Date: 7/5/23.

Accession Number: 20230705-5071.

Comment Date: 5 p.m. ET 7/26/23.

Docket Numbers: ER23-2336-000.

Applicants: Vineyard Wind 1 LLC.

Description: Baseline eTariff Filing: Baseline new to be effective 9/4/2023.

Filed Date: 7/5/23.

Accession Number: 20230705-5094.

Comment Date: 5 p.m. ET 7/26/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: July 5, 2023.
Debbie-Anne A. Reese,
Deputy Secretary.

[FR Doc. 2023-14601 Filed 7-10-23; 8:45 am]

BILLING CODE 6717-01-P